DEPARTMENT OF DEFENSE

Defense Acquisition Regulations System

48 CFR Parts 225 and 252

RIN 0750-AI47

Defense Federal Acquisition Regulation Supplement: Elimination of Quarterly Reporting of Actual Performance Outside the United States (DFARS Case 2015-D001)

AGENCY: Defense Acquisition Regulations System, Department of Defense (DoD).

ACTION: Final rule.

SUMMARY: DoD is issuing a final rule amending the Defense Federal Acquisition Regulation Supplement (DFARS) to eliminate the requirement for quarterly reporting of actual contract performance outside the United States.

DATES: Effective December 11, 2014.

FOR FURTHER INFORMATION CONTACT: Ms. Amy G. Williams, telephone 571-372-6106.

SUPPLEMENTARY INFORMATION:

I. Background

As part of a DFARS streamlining initiative, DoD is eliminating the requirement for quarterly reporting of actual contract performance outside the United States (DFARS 252.225-7006, Quarterly Reporting of Actual Contract Performance Outside the United States) and associated text in DFARS subpart 225.72. This report is not required by statute.

DoD is retaining the provision at 252.225-7003, Report of Intended Performance Outside the United States and Canada—Submission with Offer, and the clause at 252.225-7004, Report of Intended Performance Outside the United States and Canada—Submission After Award, both of which are required by 10 U.S.C. 2410g.

II. Publication of This Final Rule for Public Comment Is Not Required by Statute

“Publication of proposed regulations”, 41 U.S.C. 1707, is the statute which applies to the publication of the Federal Acquisition Regulation. Paragraph (a)(1) of the statute requires that a procurement policy, regulation, procedure or form (including an amendment or modification thereof) must be published for public comment if it relates to the expenditure of appropriated funds, and has either a significant effect beyond the internal operating procedures of the agency issuing the policy, regulation, procedure or form, or has a significant cost or administrative impact on contractors or offerors. This final rule is not required to be published for public comment, because this rule just eliminates obsolete text.

III. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, dated September 30, 1993. This rule is not a major rule under 5 U.S.C. 804.

IV. Regulatory Flexibility Act

The Regulatory Flexibility Act does not apply to this rule because this final rule does not constitute a significant DFARS revision within the meaning of FAR 1.501-1, and 41 U.S.C. 1707 does not require publication for public comment.

V. Paperwork Reduction Act

This rule slightly reduces the information collection requirements currently approved under OMB Control Number 0704-0229, titled Defense Federal Acquisition Regulation Supplement (DFARS) Part 225, Foreign Acquisition, in accordance with the Paperwork Reduction Act (44 U.S.C. chapter 35). Removing the requirement for the DFARS 252.225-7006 quarterly reports reduced the burden hours approved by OMB in 0704-0229 by 225 hours, from 64,256 hours to 64,031 hours. An OMB Form 83-C Change Request has been processed by OMB to reduce the burden accordingly.

List of Subjects in 48 CFR Parts 225 and 252

Government procurement.

Manuel Quinones,
Editor, Defense Acquisition Regulations System.

Therefore, 48 CFR parts 225 and 252 are amended as follows:

1. The authority citation for 48 CFR parts 225 and 252 continues to read as follows:

Authority: 41 U.S.C. 1303 and 48 CFR chapter 1.

PART 225—FOREIGN ACQUISITION

2. Revise section 225.7201 to read as follows:

225.7201 Policy.

10 U.S.C. 2410g requires offerors and contractors to notify DoD of any intention to perform a DoD contract outside the United States and Canada when the contract could be performed inside the United States or Canada.

225.7204 [Amended]

3. Amend section 225.7204 by—

a. In paragraph (a), adding the word “and” after the semicolon;

b. In paragraph (b), removing the semicolon and adding a period; and

c. Removing paragraph (c).

PART 252—SOLICITATION PROVISIONS AND CONTRACT CLAUSES

252.225-7006 [Removed and Reserved]

4. Remove and reserve 252.225-7005.

[FR Doc. 2014-28816 Filed 12-10-14; 8:45 am]

BILLING CODE 5001-06-P